NUCLEAR REGULATORY COMMISSION

Review Standard for Extended Power Uprates; Availability of Review Standard

AGENCY: Nuclear Regulatory Commission (NRC).

ACTION: Notice of Issuance of Review Standard.

SUMMARY: The NRC is announcing the availability of Office of Nuclear Reactor Regulation Review Standard (RS)-001, Revision 0, “Review Standard for Extended Power Uprates,” dated December 2003. RS-001, Revision 0, fully addressed the public comments received on the draft version of RS-001.

This document is available for public inspection (1) at the NRC's Public Document Room (PDR), located at One White Flint North, Public File Area O1 F21, 11555 Rockville Pike, Rockville, Maryland, (2) from the Agencywide Documents Access and Management System's (ADAMS) Public Electronic Reading Room on the Internet at the NRC Web site, http://www.nrc.gov/reading-rm/adams.html, using the Accession No. ML033640024, and (3) at the NRC's Web site, http://www.nrc.gov/reactors/operating/licensing/power-uprates.html. Persons who do not have access to ADAMS or who encounter problems accessing the document in ADAMS should contact the NRC PDR Reference staff by telephone at 1-800-397-4209, (301) 415-4737, or by e-mail to pdr@nrc.gov.

FOR FURTHER INFORMATION CONTACT: Mohammed A. Shuaibi, Senior Project Manager, Section 1, Project Directorate III, Division of Licensing Project Management, Office of Nuclear Reactor Regulation, and Anthony C. McMurtray, Senior Project Manager, Section 1, Project Directorate III, Division of Licensing Project Management, Office of Nuclear Reactor Regulation. Mr. Shuaibi may be reached by telephone at (301) 415-2859 or e-mail at mas4@nrc.gov. Mr. McMurtray may be reached by telephone at (301) 415-4106 or e-mail at acm2@nrc.gov.

SUPPLEMENTARY INFORMATION: The process of increasing the licensed power level at a commercial nuclear power plant is called a “power uprate.” Power uprates can be classified into three categories based on the magnitude of the power increase and the methods used to achieve the increase. Measurement uncertainty recapture power uprates result in power level increases that are less than 2 percent and are achieved by implementing enhanced techniques for calculating reactor power. Stretch power uprates typically result in power level increases that are up to 7 percent and do not generally involve major plant modifications. Extended power uprates (EPUs) result in power level increases that are greater than stretch power uprates, have been approved for increases as high as 20 percent, and usually require significant modifications to major plant equipment. RS-001 is applicable to EPUs.

RS-001 establishes standardized review guidance for the staff's reviews of EPU applications to enhance the consistency, quality, and completeness of the reviews. It serves as a tool for the staff's use when processing EPU applications in that it provides detailed references to various NRC documents containing specific information related to the areas of review.

RS-001 also makes available to licensees the guidance used by the staff for reviewing and accepting EPU applications. Making this information available should help licensees prepare complete EPU applications that address the topics needed for the NRC staff's review. By addressing the areas in the review standard, a licensee could minimize the NRC staff's need for requests for additional information and thereby improve the efficiency of the staff's review.

Dated at Rockville, Maryland, this 15th day of January, 2004.
For the Nuclear Regulatory Commission.
Ledyard B. Marsh,
Director, Division of Licensing Project Management, Office of Nuclear Reactor Regulation.

[FR Doc. 04-1414 Filed 1-22-04; 8:45 am]

BILLING CODE 7590-01-P